DEPARTMENT OF DEFENSE

Department of the Navy

Notice of Intent To Prepare a Supplement to the 2003 Environmental Impact Statement for Introduction of the F/A-18 E/F (Super Hornet) Aircraft to the East Coast of the United States

AGENCY: Department of the Navy, DOD.

ACTION: Notice.

SUMMARY: Pursuant to section (102)(2)(c) of the National Environmental Policy Act (NEPA) of 1969, and the regulations implemented by the Council on Environmental Quality (40 CFR parts 1500-1508), the Department of the Navy (Navy) intends to prepare a Supplemental Environmental Impact Statement (SEIS) for the Introduction of the F/A-18 E/F Super Hornet Aircraft to the East Coast of the United States. The SEIS will provide additional analysis of the environmental consequences associated with the construction and operation of an Outlying Landing Field (OLF) to support Field Carrier Landing Practice (FCLP) operations of Super Hornet squadrons stationed at Naval Air Station (NAS) Oceana, Virginia, and Marine Corps Air Station (MCAS) Cherry Point, North Carolina.

FOR FURTHER INFORMATION CONTACT: To be included on the Navy's distribution list for the SEIS, requests should be made online through the project Web site http://www.efaircraft.ene.com under “distribution list” or directed in writing to: Mr. Dan Cecchini, Code EV42, Naval Facilities Engineering Command (NAVFAC) Atlantic, 6506 Hampton BLVD, Norfolk, VA 23508, fax: (757) 322-4984.

SUPPLEMENTARY INFORMATION: In July 2003, the Navy completed the Final Environmental Impact Statement (EIS) for the Introduction of F/A-18 E/F (Super Hornet) Aircraft to the East Coast of the United States. In the Final EIS, the Navy evaluated the environmental consequences of homebasing 10 Super Hornet fleet squadrons (120 aircraft) and one Fleet Replacement Squadron (FRS) (24 aircraft) at various locations on the East Coast of the United States. Additionally, in the Final EIS, the Navy evaluated the environmental consequences associated with constructing and operating a new OLF to support FCLP operations of the Super Hornet squadrons.

The Assistant Secretary of the Navy for Installations and Environment reviewed the Final EIS, and after carefully weighing the operational, social, economic, and environmental consequences of the proposed action, determined the Navy would homebase eight Super Hornet squadrons (and the FRS) at NAS Oceana, two squadrons at MCAS Cherry Point, and construct an OLF in Washington County, North Carolina. The Record of Decision was published in the Federal Register on September 10, 2003, (68 FR 53353). The decision to construct and operate an OLF in Washington County implemented the preferred OLF alternative Site C, identified in the Final EIS.

The National Audubon Society, North Carolina Wildlife Federation, Defenders of Wildlife, and Washington and Beaufort Counties filed a lawsuit challenging the Navy's decision on the basis that the Navy's NEPA analysis was inadequate. On February 18, 2005, the U.S. District Court for the Eastern District of North Carolina held that the Final EIS was deficient and enjoined the Navy from taking any further activity associated with the planning, development, or construction of the OLF at Site C until the Navy fully complied with the National Environmental Policy Act (NEPA) regarding construction and operation of an OLF.

The Navy filed an appeal of the District Court's decision with the Fourth Circuit Court of Appeals. The Navy determined that the need for a new OLF, whether at Site C or elsewhere, is so urgent and critical that the Navy must proceed simultaneously with the appeal while initiating the SEIS. Should the Fourth Circuit find on appeal that the Navy fully complied with NEPA, the Navy may elect to discontinue the SEIS process, in whole, or in part.

The SEIS will address those areas identified by the District Court to be deficient. The U.S. Fish and Wildlife Service, with special expertise in the area of migratory waterfowl and wildlife refuges, will be asked to participate as a cooperating agency pursuant to 40 CFR 1501.6. The five alternative OLF sites in northeastern North Carolina that were evaluated in the Final EIS and that support the homebasing of the Super Hornets at NAS Oceana and MCAS Cherry Point will be considered in the SEIS. Those sites include Site A in Perquimans County, Site B in Bertie County, Site C in Washington County, Site D in Hyde County, and Site E in Craven County, North Carolina.

To receive a copy of the Draft SEIS, please provide your name and address via the project Web site http://www.efaircraft.ene.com or in writing to the point of contact identified in this notice. Project-related information and an electronic version of the Draft SEIS, when completed, will also be available on the project Web site http://www.efaircraft.ene.com. Public hearings will be held in the vicinity of each of the alternative OLF sites during the 45-day public and agency review period. Dates, locations, and times for the public hearings will be announced in the Federal Register and local media.

Dated: June 20, 2005.
I. C. Le Moyne Jr.,
Lieutenant, Judge Advocate General's Corps, U.S. Navy, Alternate Federal Register Liaison Officer.

[FR Doc. 05-12486 Filed 6-23-05; 8:45 am]

BILLING CODE 3810-FF-P